RAILROAD RETIREMENT BOARD

Proposed Collection; Comment Request

SUMMARY: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Vocational Report; OMB 3220-0141. Section 2 of the Railroad Retirement Act (RRA) provides for payment of disability annuities to qualified employees and widow(ers). The establishment of permanent disability for work in the applicant's “regular occupation” or for work in any regular employment is prescribed in 20 CFR 220.12 and 220.13 respectively.

The RRB utilizes Form G-251, Vocational Report, to obtain an applicant's work history. This information is used by the RRB to determine the effect of a disability on an applicant's ability to work. Form G-251 is designed for use with the RRB's disability benefit application forms and is provided to all applicants for employee disability annuities and to those applicants for a widow(er)'s disability annuity who indicate that they have been employed at some time.

Significant changes are proposed to Form G-251 in support of the RRB's Disability Program Improvement Project to enhance/improve disability case processing and overall program integrity as recommended by the RRB's Office of Inspector General and the Government Accountability Office.

Proposed changes to Form G-251 include the consolidation and revision of existing items that request information about essential job duties performed and any exposure to environmental hazards; the expansion of existing items that provide information regarding an applicant's physical actions or work activities and the amount of time that they expend on such activities during an average 8 hour work day to include Balancing, Twisting/Turning, Crawling, Gripping/Holding, Foot Control, and Fine Manipulation; and the addition of new items that request information regarding any permanent working accommodations an employer may have made due to the employee's disability are also proposed.

Other minor changes proposed include revisions to the “Identifying Information” section to add “Province” to the address field for applicants who may live outside the U.S. and to provide for an additional telephone number. Minor non-burden impacting, editorial and formatting changes are also proposed.

Completion is required to obtain or retain a benefit. One response is requested of each respondent.

Estimate of Annual Respondent Burden
Form No. | Annual responses | Time (minutes) | Burden (hours)
G-251 (with assistance) | 5,730 | 40 | 3,820
G-251 (without assistance) | 270 | 50 | 225
Total | 6,000 |  | 4,045

Additional Information or Comments: To request more information or to obtain a copy of the information collection justification, forms, and/or supporting material, contact Dana Hickman at (312) 751-4981 or Dana.Hickman@RRB.GOV. Comments regarding the information collection should be addressed to Charles Mierzwa, Railroad Retirement Board, 844 North Rush Street, Chicago, Illinois 60611-2092 or emailed to Charles.Mierzwa@RRB.GOV. Written comments should be received within 60 days of this notice.

Charles Mierzwa,
Chief of Information Resources Management.

[FR Doc. 2016-07130 Filed 3-28-16; 8:45 am]

BILLING CODE 7905-01-P